DEPARTMENT OF TRANSPORTATION

Office of the Secretary

[Docket Number: DOT-OST-2023-0097]

Rural and Tribal Assistance Pilot Program; Correction

ACTION: Notice of funding opportunity, correction.

SUMMARY: The Department of Transportation is correcting a notice published on June 15, 2023 issue of the Federal Register entitled “Notice of Funding Opportunity to Establish Cooperative Agreements with Technical Assistance Providers for the Fiscal Year 2022 Thriving Communities Program”. This notice corrects several web links and updates the close date of the application period.

SUPPLEMENTARY INFORMATION:

Corrections

In the Federal Register notice of June 15, 2023, on page 39328, in the second column of B. Federal Award Information, “Transportation.gov/BuildAmerica/RuralandTribalGrants” is corrected to read “https://www.transportation.gov/buildamerica/RuralandTribalGrants”

In the Federal Register notice of June 15, 2023, on page 39329, in the second column under RAISE Grant Program “www.transportation.gov/RAISEgrants” is corrected to read “http://www.transportation.gov/RAISEgrants”

In the Federal Register notice of June 15, 2023, on page 39329, in the third column of D. Application and Submission Information, “Transportation.gov/BuildAmerica/RuralandTribalGrants” is corrected to read “https://www.transportation.gov/buildamerica/RuralandTribalGrants”

In the Federal Register notice of June 15, 2023, on page 39330, in the first column, first paragraph “Transportation.gov/BuildAmerica/RuralandTribalGrants” is corrected to read “https://www.transportation.gov/buildamerica/RuralandTribalGrants”

In the Federal Register notice of June 15, 2023, on page 39330, in the first column, third paragraph of 2. Content of Form of Application Information, “Transportation.gov/BuildAmerica/RuralandTribalGrants” is corrected to read “https://www.transportation.gov/buildamerica/RuralandTribalGrants”

In the Federal Register notice of June 15, 2023, on page 39330, in the third column, first paragraph, lines 10-11 of 4. Submission Dates and Timelines, “Transportation.gov/BuildAmerica/RuralandTribalGrants” is corrected to read “https://www.transportation.gov/buildamerica/RuralandTribalGrants”

In the Federal Register notice of June 15, 2023, on page 39330, in the third column, first paragraph, line 13 of 4. Submission Dates and Timelines, “July 31, 2023” is corrected to read “September 28, 2023.”

In the Federal Register notice of June 15, 2023, on page 39330, in the third column, first paragraph, lines 19-20 of 4. Submission Dates and Timelines, “Transportation.gov/BuildAmerica/RuralandTribalGrants” is corrected to read “https://www.transportation.gov/buildamerica/RuralandTribalGrants”

In the Federal Register notice of June 15, 2023, on page 39330, in the third column, first paragraph, lines 29-30 of 4. Submission Dates and Timelines, “Transportation.gov/BuildAmerica/RuralandTribalGrants” is corrected to read “https://www.transportation.gov/buildamerica/RuralandTribalGrants”

In the Federal Register notice of June 15, 2023, on page 39331, in the second column, third paragraph of 8. Consideration of Application, “Transportation.gov/BuildAmerica/RuralandTribalGrants” is corrected to read “https://www.transportation.gov/buildamerica/RuralandTribalGrants”

In the Federal Register notice of June 15, 2023, on page 39333, in the third column, third of G. Federal Awarding Agency Contacts, “Transportation.gov/BuildAmerica/RuralandTribalGrants” is corrected to read “https://www.transportation.gov/buildamerica/RuralandTribalGrants”

Issued in Washington, DC, on June 20, 2023.
Morteza Farajian,
Executive Director, Build America Bureau.

[FR Doc. 2023-13538 Filed 6-26-23; 8:45 am]

BILLING CODE P